FEDERAL COMMUNICATIONS COMMISSION

Public Information Collection(s) Being Reviewed by the Federal Communications Commission for Extension Under Delegated Authority; Comments Requested

August 16, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number.

Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 23, 2000. If you anticipate that you will be submitting comments, but find it difficult to do so within the period of time allowed by this notice, you should advise the contact listed below as soon as possible.

ADDRESSES: Direct all comments to Les Smith, Federal Communications Commission, Room 1 A-804, 445 Twelfth Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION:

OMB Control No.: 3060-0261.

Title: Transmitter Measurements.

Form No.: N/A.

Type of Review: Extension of a currently approved collection.

Respondents: Individuals or households; business or other for-profit entities; not-for-profit institutions; state, local or tribal governments.

Number of Respondents: 129,900.

Estimated Time Per Respondent: .033 hours.

Frequency of Responses: On occasion.

Total Annual Burden: 4,287 hours.

Needs and Uses: This information collection requires technical measurements on each transmitter upon initial installation. This information helps assure proper operation of transmitters, thereby reducing instances of interference.

OMB Control No.: 3060-0295.

Title: Supplemental information to be furnished by applicants for facilities under this subpart.

Form No.: N/A.

Type of Review: Extension of a currently approved collection.

Respondents: Business or other for-profit entities; not-for-profit institutions; state, local or tribal governments.

Number of Respondents: 2,028.

Estimated Time Per Respondent: .025 hours.

Frequency of Responses: On occasion.

Total Annual Burden: 507 hours.

Needs and Uses: This information collection requires certain applicants requesting 800 MHz facilities to furnish a list of any other licensed facilities they hold within 40 miles of the applied for base station. This information is used to determine if an applicant's proposed system is necessary in light of communications facilities it alerady owns.

Federal Communications Commission.
William F. Canton,
Deputy Secretary.

[FR Doc. 00-21410 Filed 8-21-00; 8:45 am]

BILLING CODE 6712-01-U